DEPARTMENT OF ENERGY

Federal Energy Regulatory Commission

[Project No. 2428-007]

Aquenergy Systems, LLC; Notice of Application Accepted for Filing and Soliciting Motions To Intervene and Protests

Take notice that the following hydroelectric application has been filed with the Commission and is available for public inspection.

a. Type of Application: Subsequent License.

b. Project No.: 2428-007.

c. Date filed: December 30, 2015.

d. Applicant: Aquenergy Systems, LLC (Aquenergy).

e. Name of Project: Piedmont Hydroelectric Project.

f. Location: The existing project is located on the Saluda River in the Town of Piedmont, in Anderson and Greenville Counties, South Carolina. The project does not affect federal land.

g. Filed Pursuant to: Federal Power Act 16 U.S.C. 791(a)-825(r).

h. Applicant Contact: Beth E. Harris, P.E., Regional Operations Manager, Enel Green Power North America, Inc., 11 Anderson Street, Piedmont, SC 29673; Telephone—(864) 846-0042; Email—beth.harris@enel.com OR Kevin Webb, Hydro Licensing Manager, Enel Green Power North America, Inc., One Tech Drive, Suite 220, Andover, MA 01810; Telephone—(978) 681-1900; Email—kevin.webb@enel.com.

i. FERC Contact: Navreet Deo, (202) 502-6304, or navreet.deo@ferc.gov.

j. Deadline for filing motions to intervene and protests and requests for cooperating agency status: 60 days from the issuance date of this notice.

The Commission strongly encourages electronic filing. Please file motions to intervene and protests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2428-007.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted, but is not ready for environmental analysis at this time.

l. The Piedmont Project consists of: (1) A 600-foot-long by 25-foot-high stone masonry dam, consisting of (i) a 200-foot-long non-overflow section, (ii) a 200-foot-long central overflow spillway topped with 16-inch wooden flashboards, and (iii) a 200-foot-long non-overflow spillway housing the inoperable J.P. Stevens Canal intake; (2) a 22-acre impoundment at a normal pool elevation of 774 feet mean sea level; (3) a 144-foot-long by 81-foot-wide intake canal consisting of eight gates at the head of the canal controlling flow to the powerhouse; (4) a 55-foot-long by 55-foot-wide brick masonry powerhouse protected by a trashrack structure with 2-inch clear bar spacing, located 120 feet downstream of the dam, containing one vertical Francis turbine generating unit that totals 1,000 kilowatt (kW); (5) a 180-foot-long by 38-foot-wide tailrace; (6) a 263-foot-long, 600-volt transmission line connecting the powerhouse to the non-project substation; and (7) appurtenant facilities.

Aquenergy operates the project in a run-of-river mode, with no useable storage or flood control capacity. A continuous minimum flow of 15 cubic feet per second (cfs) or inflow, whichever is less, is released into the bypassed area. The minimum flow is achieved via a weir on the spillway crest. The project operates under an estimated average head of 26 feet, including the 16-inch spillway flashboards. The impoundment water surface elevation is maintained at 774 feet. River flows between 159 cfs and 535 cfs are used for power generation, while flows in excess of 535 cfs are passed over the flashboards and spillway. The total installed capacity of the project is 1,000 kW from the single generating unit. The project generates approximately 5,369 megawatt-hours annually, which are sold to a local utility.

Aquenergy proposes to continue to operate and maintain the Piedmont Project as is required in the existing license, and to develop canoe portage facilities. No changes to project operations are proposed. Other than the development of canoe portage facilities, no new construction or major project modifications are proposed.

m. A copy of the application is available for review at the Commission in the Public Reference Room, or may be viewed on the Commission's Web site at http://www.ferc.gov using the eLibrary link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

n. Anyone may submit a protest or a motion to intervene in accordance with the requirements of Rules of Practice and Procedure, 18 CFR 385.210, .211, and .214. In determining the appropriate action to take, the Commission will consider all protests or other comments filed, but only those who file a motion to intervene in accordance with the Commission's Rules may become a party to the proceeding. Any protests, or motions to intervene must be received on or before the specified comment date for the particular application.

All filings must: (1) Bear in all capital letters the title PROTEST or MOTION TO INTERVENE; (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Dated: September 21, 2017.
Kimberly D. Bose,
Secretary.

[FR Doc. 2017-20787 Filed 9-27-17; 8:45 am]

BILLING CODE 6717-01-P